ENVIRONMENTAL PROTECTION AGENCY

[ER-FRL-9048-4]

Environmental Impact Statements; Notice of Availability

Responsible Agency: Office of Federal Activities, General Information 202-564-5632 or https://www.epa.gov/ nepa/.

Weekly receipt of Environmental Impact Statements

Filed 12/02/2019 10 a.m. ET Through 12/09/2019 10 a.m. ET

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20190288, Draft, USFS, AZ, Pinto Valley Mine, Comment Period Ends: 01/27/2020, Contact: Judd Sampson 602-525-1914.

EIS No. 20190289, Draft, NOAA, FL, Coral Reef Conservation Program Programmatic Environmental, Impact Statement, Comment Period Ends: 01/27/2020, Contact: Elizabeth Fairey 301-427-8632.

EIS No. 20190290, Draft, USACE, NE, US-275 West Point to Scribner Expressway, Comment Period Ends: 01/27/2020, Contact: Phil Rezac 402-896-0896.

EIS No. 20190291, Draft, USFS, AZ, Tonto National Forest Plan Revision, Comment Period Ends: 03/12/2020, Contact: Kenna Belsky 602-225-5200.

EIS No. 20190292, Draft, USACE, LA, West Bank and Vicinity, Louisiana, General Re-Evaluation Report, Comment Period Ends: 02/07/2020, Contact: Bradley Drouant 504-862-1516.

EIS No. 20190293, Draft, USACE, LA, Lake Pontchartrain and Vicinity Draft General Re-Evaluation Report with Integrated EIS, Comment Period Ends: 02/07/2020, Contact: Bradley Drouant 504-862-1516.

Amended Notice

EIS No. 20190256, Draft Supplement, NASA, CA, Draft Supplemental Environmental Impact Statement for Soil Cleanup Activities at Santa Susana Field Laboratory, Comment Period Ends: 01/08/2020, Contact: Peter Zorba msfc-ssfl-information@mail.nasa.gov, Revision to FR Notice Published 10/25/2019; Extending the Comment Period from 12/9/2019 to 1/8/2020.

EIS No. 20190261, Draft, USAF, NM, Special Use Airspace Optimization Holloman Air Force Base, New Mexico, Comment Period Ends: 01/31/2020, Contact: Robin Divine 210-925-2730, Revision to FR Notice Published 11/01/2019; Extending the Comment Period from 12/16/2019 to 1/31/2020.

EIS No. 20190282, Draft, USA, LA, Amite River and Tributaries East of Mississippi River, Louisiana, Comment Period Ends: 01/13/2020, Contact: US Army Corps of Engineers 504-862-1014, Revision to FR Notice Published 11/29/2019; Correcting Lead Agency from USA to USACE.

Dated: December 9, 2019.
Robert Tomiak,
Director, Office of Federal Activities.

[FR Doc. 2019-26879 Filed 12-12-19; 8:45 am]

BILLING CODE 6560-50-P